DEPARTMENT OF ENERGY

Agency Information Collection Extension; Correction

AGENCY: U.S. Department of Energy.

ACTION: Notice and Request for Comments; Correction.

SUMMARY: The Department of Energy (DOE) published a document in the Federal Register of September 18, 2008, announcing the submission of an information request to the OMB for the Foreign Travel Management System (FTMS). This document corrects errors in that notice.

FOR FURTHER INFORMATION CONTACT: Requests for additional information or copies of the information collection instrument and instructions should be directed to Julie Squires at julie.squires@hq.doe.gov.

Correction

In the Federal Register of September 18, 2008, in FR Doc. E8-21825, please make the following corrections:

On page 54154, second column, under the heading SUMMARY, the first sentence is corrected to read: The Department of Energy (DOE) invites public comment on a proposed collection of information for submission to the Office of Management and Budget (OMB) pursuant to the Paperwork Reduction Act of 1995.

On page 54154, third column, under the heading SUPPLEMENTARY INFORMATION, (1) should read as OMB New and (3) should read as Type of Review: New.

Issued in Washington, DC, on October 28, 2008.
Julie Squires,
Acting Director, Office of International Travel and Exchange Visitor Programs.

[FR Doc. E8-26138 Filed 10-31-08; 8:45 am]

BILLING CODE 6450-01-P